DEPARTMENT OF THE INTERIOR

Bureau of Land Management

[LLCAD06000 L51010000.FX0000 LVRWB09B3350 CACA49491]

Notice of Availability of the Draft enXco Desert Harvest Solar Farm Project Environmental Impact Statement, Riverside County, CA and the Draft California Desert Conservation Area Plan Amendment

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Draft Environmental Impact Statement (Draft EIS) for the enXco Desert Harvest Solar Farm Project and draft California Desert Conservation Area (CDCA) Plan Amendment, and by this notice is announcing the opening of the comment period on the Draft EIS and Draft CDCA Plan Amendment.

DATES: To ensure that comments will be considered, the BLM must receive written comments on the Draft EIS and Draft CDCA Plan Amendment within 90 days following the date the Environmental Protection Agency publishes its Notice of Availability in the Federal Register. The BLM will announce future meetings or hearings and any other public involvement activities at least 15 days in advance through public notices, media releases, and/or mailings.

ADDRESSES: You may submit comments related to the enXco Desert Harvest Solar Farm Project and CDCA Plan Amendment by any of the following methods:

• Web site: http://www.blm.gov/ca/st/en/fo/palmsprings/Solar_Projects/Desert_Harvest_Solar_Project.html.

• Email: cadesertharvest@blm.gov.

• Fax: (951) 697-5299.

• Mail: Lynnette Elser, BLM, California Desert District Office, 22835 Calle San Juan de Los Lagos, Moreno Valley, California 92553.

Copies of the enXco Desert Harvest Solar Farm Project Draft EIS and Draft CDCA Plan Amendment are available in the BLM California Desert District Office at the above address and at the BLM Palm Springs Field Office, 1201 Bird Center Drive Palm Springs, CA 92262.

FOR FURTHER INFORMATION CONTACT: Lynnette Elser, Project Manager; telephone (951) 697-5233; address BLM, 22835 Calle San Juan de Los Lagos, Moreno Valley, CA 92553; email cadesertharvest@blm.gov. Persons who use a telecommunications device for the deaf (TDD) may call the Federal Information Relay Service (FIRS) at 1-800-877-8339 to contact the above individual during normal business hours. The FIRS is available 24 hours a day, 7 days a week, to leave a message or question for the above referred individual. You will receive a reply during normal business hours.

SUPPLEMENTARY INFORMATION: The applicant, enXco, has requested a right-of-way (ROW) authorization to construct, operate, maintain, and decommission a solar photovoltaic (PV) generating facility with a proposed output of 150 megawatts (mw) and a facility footprint of approximately 1,280 acres. The proposed project would be located on BLM-administered lands in Riverside County, California, about 6 miles north of the rural community of Desert Center, California. The overall site layout and generalized land uses could include a substation, an administration building, operations and maintenance facilities, a transmission line, and temporary construction lay down areas. The project's 230-kilovolt (kV) generation interconnection transmission line would either be located on the previously approved First Solar Desert Sunlight project's 230-kV gen-tie (as a shared facility), or would be located on a combination of private and BLM-administered lands and would utilize a planned 230- to 500-kV substation (referred to as the Red Bluff Substation). The Red Bluff Substation would connect the project to Southern California Edison regional transmission grid. If the project is approved, construction would begin in late 2013 and would take 9-12 months to complete.

The BLM's purpose and need for the Desert Harvest Project is to respond to enXco's application under Title V of FLPMA (43 U.S.C. 1761) for a ROW grant to construct, operate, and decommission a solar PV facility on public lands in compliance with FLPMA, NEPA, BLM ROW and land use planning regulations, and other applicable laws and regulations. The BLM will decide whether to approve, approve with modification, or deny a ROW to enXco for the proposed Desert Harvest project. Concurrently with its action on the ROW request, the BLM is also proposing to amend the CDCA Plan to make the project area (or portions of the project area) either available or unavailable for future solar development. The CDCA Plan (1980, as amended), while recognizing the potential compatibility of solar generation facilities with other uses on public lands, requires that all sites proposed for power generation or transmission not already identified in the CDCA Plan be considered through the plan amendment process. If the BLM decides to grant a ROW, the BLM would amend the CDCA Plan as required based on guidance in the BLM Land Use Planning Handbook (H-1601-1).

The Draft EIS Analyzes 12 Alternatives

Four no action/no development alternatives (Alternative 1: No Action (No Plan Amendment), Alternative 2: No Project Alternative (with Plan Amendment to Find the Site Suitable for Solar), Alternative 3: No Project Alternative (with Plan Amendment to Find the Site Unsuitable for Solar), Alternative A: No Gen-Tie),

Four generation plan development alternatives (Alternative 4: Proposed Solar Project, Alternative 5: Solar Project Excluding WHMA, Alternative 6: Reduced Footprint Solar Project Alternative 7: High-Profile Reduced Footprint Solar Project), and

Four transmission line alternatives (Alternative B: Proposed Gen-Tie (Shared Towers), Alternative C: Separate Transmission Towers within Same ROW, Alternative D: Cross-Valley Alignment, Alternative E: New Cross-Valley Alignment). The BLM has identified Alternative 7 as the preferred alternative for the generation plant, and Alternative B as the preferred alternative for the transmission line.

The Draft EIS analyzes the direct, indirect, and cumulative impacts of the Proposed Action and alternatives to the affected resources identified by the BLM and the public during project scoping.

The BLM published a Notice of Intent (NOI) to prepare an EIS on September 15, 2011, in the Federal Register Volume 76, Number 179. Publication of the NOI began a 30-day scoping period, which ended on October 17, 2011. The BLM provided a Web site with project information that also described the various methods of providing public comment on the project, including an email address for the BLM to receive scoping comments electronically.

Notifications for public scoping meetings were posted on the BLM's Web site. Additionally, notices were sent to all landowners within 300 feet of the project boundary and to other interested parties during the week of September 19, 2011.

Public Scoping Meetings were held on October 3, 2011, at the University of Riverside Palm Desert Graduate Center and at the Lake Tamarisk Clubhouse. An additional public scoping meeting was held on October 6, 2011, at the Joshua Tree Community Center. Attendees were documented through a voluntary sign-in sheet, and included 6 attendees at the University of Riverside Palm Desert Graduate Center along with KMIR TV; 30 attendees at the Lake Tamarisk Clubhouse; and 7 attendees at the Joshua Tree Community Center. A court reporter documented the questions and public comments made at the three scoping meetings.

Attendees included residents from Desert Center and Lake Tamarisk, federal and state agency representatives, nearby business owners, Tribes, Chamber of Commerce members, and an environmental group representative.

Twelve comment letters were received within the scoping period. Comments received at the public meetings and through the submitted letters identified the following issues and concerns to be considered when developing the EIS: the BLM's purpose and need, monitoring, decommissioning, public participation, biological resources, climate change, air resources, fire and fuels management, lands and realty, recreation, social and economic resources, environmental justice, water resources, solid and hazardous wastes, visual resources, cumulative impacts, and alternatives development.

The BLM considered these comments in developing the Draft EIS and Draft CDCA Plan Amendment.

The BLM used an updated inventory of wilderness characteristics to determine that none of the project area has wilderness characteristics. This information was used in the preparation of the Draft EIS and Draft CDCA Plan Amendment.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 506.10, and 43 CFR 1610.2

Thomas Pogacnik,
Deputy State Director.

[FR Doc. 2012-9338 Filed 4-13-12; 4:15 pm]

BILLING CODE 4310-40-P